DEPARTMENT OF HEALTH AND HUMAN SERVICES

42 CFR Part 94

RIN 0905-AE71

Public Health Service Standards for the Protection of Research Misconduct Whistleblowers; Correction

AGENCY: Department of Health and Human Services (HHS).

ACTION: Notice of proposed rulemaking; technical correction.

SUMMARY: The Department of Health and Human Services published in the Federal Register of November 28, 2000, a notice of proposed rulemaking to establish regulations that covered institutions must follow for preventing or otherwise responding to occurrences of retalitation against whistleblowers. (65 FR 70830) This document corrects the Preamble of the notice of proposed rulemaking to update changed Internet website addresses and to add several inadvertently omitted explanatory sentences.

FOR FURTHER INFORMATION CONTACT: Barbara Bullman, 301-443-5300 (This is not a toll-free number).

SUPPLEMENTARY INFORMATION:

Preamble Supplementary Information [Corrected]

On Page 70830, in the third column at the top of the page, correct the web page cite to read “http://ori/hhs.gov.”

On page 70830, in the third column, correct the fourth full paragraph by adding a sentence at the end of the paragraph to read “If both parties agree, they may also continue mediation efforts during the administrative proceeding.”

On Page 70831, in the first column, the third full paragraph, correct the web page cite to read “http://ori/hhs.gov.”

On page 70831, in the second column, correct the second and third sentences of the first full paragraph to read “The decisionmaker must order an institutional remedy if the whistleblower meets the burden of proof and proves by a preponderance of the evidence that the act of good faith whistleblowing was a contributing factor in the alleged adverse action taken by the institution or one of its members against the whistleblower. However, even if the whistleblower meets this burden, the burden of proof shifts to the institution, and the decisionmaker may not order an institutional remedy if the institution then proves by clear and convincing evidence that it would have taken the action at issue even in the absence of the whistleblower's allegation or cooperation with an investigation.”

On page 70832 in the second column, correct the second full paragraph by adding a sentence at the end of the paragraph to read “As most retaliation occurs shortly after the whistleblower alleges misconduct, the regulation would require that the adverse action happen within one year of the allegation. We request comments on this time frame.”

On page 70832 in the third column, correct the last paragraph of the Supplementary Information section by adding a sentence at the end of the paragraph to read “However, we request comments on whether to extend coverage of this proposed regulation to pending cases.”

Dated: December 18, 2000.
Brian P. Burns,
Deputy Assistant Secretary for Information Resources Management.

[FR Doc. 00-33312 Filed 12-28-00; 8:45 am]

BILLING CODE 4110-60-M